DEPARTMENT OF JUSTICE

Notice of Lodging of Consent Decree Under the Clean Water Act

Notice is hereby given that on December 22, 2003, a proposed Consent Decree was lodged with the United States District Court for the Western District of Michigan in the matter of United States et al. v. Walnutdale Farms et al., Civil No. 4:00-CV-193.

At the request of the Environmental Protection Agency (“EPA”), the United States initiated an action in October of 2002 against Walnutdale Farms, Inc. and its owners, Ralph and Kevin Lettinga (collectively “Defendants”) seeking injunctive relief and civil penalties under Sections 309 (b) and (d) of the Clean Water Act (CWA), 33 U.S.C. §§ 1319 (b) and (d). The complaint alleged that the Defendants violated Sections 301 and 402 of the Act, 33 U.S.C. §§ 1311 and 1342, by discharging, without a permit, wastewater from the Walnutdale facility, which is a concentrated animal feeding operation (CAFO). Further, the complaint alleged that the Defendants violated the CWA by failing to apply for an NPDES permit, and by failing to comply with an administrative order issued by EPA in February 2001. On November 4, 2002, the Court consolidated this action with a previously filed action brought by the Sierra Club.

Under the proposed Consent Decree, the Defendants will implement specified remedial measures to assure compliance with requirements of the CWA and applicable regulations. Among other things, the Consent Decree requires the Defendants to design, construct and operate a storm water retention pond with the ability to capture and store all process wastewater generated by the production area of the facility, including the runoff and direct precipitation from a 25-year/24-hour rainfall event. Further, the proposed Consent Decree requires the Defendants to prepare and submit for approval to EPA and the Michigan Department of Environmental Quality a Comprehensive Nutrient Management Plan for the management and utilization of all wastes produced at the facility and at specific satellite facilities. Finally, the Consent Decree requires the Defendants to undertake a number of other compliance measures with respect to the operation and maintenance of waste storage devices and the land application of farm wastes. In addition to these compliance requirements, the proposed Consent Decree provides for the Defendants to pay $100,000 plus interest over a four-year period, with half of this amount being paid to the United States as a civil penalty and the other half to Sierra Club in partial reimbursement of litigation costs.

The Department of Justice will receive, for a period of thirty (30) days from the date of this publication, comments relating to the proposed Consent Decree. Comments should be addressed to the Assistant Attorney General, Environment and Natural Resources Division, P.O. Box 7611, U.S. Department of Justice, Washington, DC 20044-7611, and should refer to United States et al. v. Walnutdale Farms et al., D.J. Ref. 90-5-1-1-07515.

The proposed Consent Decree may be examined at the Office of the United States Attorney, 2nd Floor Federal Courthouse 315 W. Allegan, Room 252, Lansing, MI 48933, and at U.S. EPA Region 5, 77 West Jackson Boulevard, Chicago, Illinois 60604. During the public comment period, the Consent Decree also may be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree library, please enclose a check in the amount of $15 (25 cents per page reproduction cost) payable to the U.S. Treasury.

William D. Brighton,
Assistant Chief, Environmental Enforcement Section, Environment and Natural Resources Division.

[FR Doc. 04-844 Filed 1-14-04; 8:45 am]

BILLING CODE 4410-15-M